ARCHITECTURAL AND TRANSPORTATION BARRIERS COMPLIANCE BOARD

36 CFR Part 1196

[Docket No. ATBCB-2026-0001]

RIN 3014-AA50

Accessibility Standards for Universal Changing Stations

AGENCY: Architectural and Transportation Barriers Compliance Board.

ACTION: Advance notice of proposed rulemaking.

SUMMARY: The Architectural and Transportation Barriers Compliance Board (Access Board) is issuing this Advance Notice of Proposed Rulemaking (ANPRM) to begin the process of establishing accessible design standards for universal changing tables and standards on the privacy, accessibility, and sanitation equipment of the room in which a universal changing table is located, pursuant to the FAA Reauthorization Act of 2024. The Access Board seeks public comment on its proposed approach to accessibility standards for these facilities to inform a future rulemaking establishing such standards.

DATES: Submit comments by April 20, 2026.

ADDRESSES: You may submit comments, identified by docket number (ATBCB-2026-0001), by any of the following methods:

• Federal eRulemaking Portal: https://regulations.gov. Follow the instructions for submitting comments.

• Email: docket@access-board.gov. Include docket number ATBCB-2026-0001 in the subject line of the message.

• Mail: Office of Technical and Information Services, U.S. Access Board, 1331 F Street NW, Suite 1000, Washington, DC 20004-1111.

Instructions: All submissions must include the docket number (ATBCB-2026-0001) for this regulatory action. All comments received will be posted without change to www.regulations.gov, including any personal information provided.

Docket: For access to the docket, to read background documents or public comments received, go to: https://www.regulations.gov/docket/ATBCB-2026-0001.

FOR FURTHER INFORMATION CONTACT: Technical information: Josh Schorr, (202) 272-0029, schorr@access-board.gov. Legal information: Wendy Marshall, (202) 272-0043, marshall@access-board.gov.

SUPPLEMENTARY INFORMATION:

I. Legal Authority

The FAA Reauthorization Act of 2024 (“FAA Reauthorization Act” or “Act”) directs the United States Access Board (“Access Board” or “Board”) to establish comprehensive accessible design standards for universal changing tables and standards on the privacy, accessibility, and sanitation equipment of the room in which such tables are located, required to be installed, or maintained. See 49 U.S.C. 47107(y). As stated in the Act, these standards are to be used by sponsors of medium and large hub airports that are seeking airport development project grants. Id. Beginning in fiscal year 2030, medium and large hub airport applicants for these grants must provide written assurance that they will install or maintain at least 1 private single room with a universal changing station in each passenger terminal building of the airport.¹ Id. The Access Board thus issues this ANPRM to solicit information to aid in the development of these statutorily required standards.

¹ As this scoping for universal changing tables is specified in the statute, the Access Board does not intend to issue scoping in its regulation. The rulemaking contemplated in this ANPRM would be limited to providing technical accessibility standards for the universal changing tables required by the FAA Reauthorization Act of 2024 and would not seek to require universal changing tables in other places or circumstances.

II. Explanation of Universal Changing Tables

A universal changing table (also known as an “adult changing table”) is a table on which an individual with a disability receives assistance from a caregiver with toileting. Such assistance may include activities such as changing incontinence garments or other dressings, colostomy bags, or catheters or assistance with other personal care or medical needs. Universal changing tables are used by individuals with a range of disabilities and medical conditions. These individuals may be wheelchair users, older adults, or children, teens, or adults with developmental disabilities, among others. Universal changing tables are larger and sturdier than baby changing stations and are designed to promote dignity and privacy for individuals who need assistance with personal care. They also provide a safer and easier way for caregivers to provide assistance with toileting and dressing. In the absence of a universal changing table, individuals with disabilities will often have to lie on the floor of a bathroom to receive assistance. Beyond the dignity and hygiene issues lying on a floor presents, it can also prove difficult and dangerous for caregivers to help individuals transfer between their wheelchairs and the floor. This scenario risks injury to both individuals with disabilities and caregivers.

III. Relevant Existing Accessibility Standards

A. Federal Accessibility Standards

The Access Board issues and maintains accessibility guidelines for the built environment under the Americans with Disabilities Act and the Architectural Barriers Act (ADA and ABA Accessibility Guidelines), which provide the technical basis for enforceable standards issued under the ADA by the Department of Justice and the Department of Transportation, and under the ABA by four standard-setting agencies.² See 36 CFR part 1191. These guidelines, which were last revised in 2004, do not contain specific requirements for adult changing tables; however, they do specify accessibility requirements for toilet rooms, toilet compartments, lavatories, sinks, and work surfaces. 36 CFR part 1191, Appendix A, 603, 604, 606, and 902. These existing provisions would be applicable to elements of an airport toilet room that includes a universal changing table to the extent that Title II of the ADA (state and local government facilities) and the ABA (applicable to some nonfederal facilities constructed with certain federal funds) apply to the facility.

² Under the ABA, the Department of Defense and the U.S. Postal Service issue accessibility standards for their own facilities and the Department of Housing and Urban Development issues accessibility standards for residential structures subject to the ABA. 42 U.S.C. 4153-4154a. All other facilities subject to the ABA, including any airports that may be subject to the ABA as a result of certain federal construction funds, must comply with accessibility standards set by the General Services Administration. 42 U.S.C. 4152.

B. Industry Standards

An existing industry standard addresses universal changing tables: section 613 of the International Code Council (ICC) A117.1-2017 with Supplement 1. The Access Board participated in the development of this American National Standards Institute (ANSI) approved American National Standard (ANS), which was incorporated into the International Building Code in 2024.³ A117.1-2017 with Supplement 1: Standard for Accessible and Useable Buildings and Facilities (ICC 2024). This standard is publicly available on the ICC website: https://codes.iccsafe.org/content/ICCA117.12017P7/icc-a117-1-2017-with-supplement-1-standard-for-accessible-and-usable-buildings-and-facilities. The Access Board encourages the public to review this standard.

³ ANSI is a private, non-profit organization that administers and coordinates the U.S. voluntary standards and conformity assessment system. ANSI is the official U.S. representative to the International Organization for Standardization.

The working group that developed the universal changing table requirements for this industry standard was comprised of 11 committee members and 12 volunteers, including a representative from the Access Board. The working group, which included balanced interest groups of manufacturers and disability advocates, met every two weeks for approximately nine months to develop these specifications. In developing the standards, the working group reviewed state laws that were then in process in 12 U.S. states and 1 Canadian province, as well as information on existing available tables from various manufacturers. The group also considered recommendations from the care industries and caregivers on how they needed to operate around the tables. These specifications went through the hearing, public comment, and review process prior to ANSI approval.

Section 613 of ICC A117.1-2017 with Supplement 1 provides specific technical criteria for adult changing tables and the rooms in which they are located. Section 613.4 states criteria for the changing surface itself, including size, weight capacity, height adjustability, maneuvering clearances, and side rails. Sections 613.2 and 613.3 address the room configuration and other required elements in the room where the changing table is located.

III. Proposed Approach to the NPRM and Questions for Public Comment

The FAA Reauthorization Act of 2024 requires the Access Board to issue accessible design standards for universal changing tables, as well as standards on the privacy, accessibility, and sanitation equipment of the room in which they are located. 49 U.S.C. 47107(y). Below, the Access Board summarizes possible approaches to the structure of each set of standards and requests public comment on these approaches.

A. Standards for Universal Changing Tables

The Access Board is considering an approach to the universal changing table standard that would incorporate by reference section 613.4 of ICC A117.1-2017 with Supplement 1, which is the portion of the existing industry standard that provides technical criteria for the surface of an adult changing table. As noted above, the Access Board participated in the development of this industry standard. The Access Board could incorporate the industry standard into its regulation with or without modifications.

Alternatively, the Access Board could develop its own standard, drawing from the current ADA and ABA Accessibility Guidelines, 36 CFR part 1191, as well as its Accessibility Standards for Medical Diagnostic Equipment (MDE Standards), 36 CFR part 1195, to establish criteria for the size, capacity, height adjustability, maneuvering clearances, and side rails. While these existing guidelines and standards do not directly address universal changing tables, the criteria for maneuvering clearances, size, capacity, side rails, and height adjustability could be derived from them.

Use of the MDE Standards would result in different technical requirements than those specified in section 613.4 of ICC A117.1-2017. For example, the MDE Standards require a transfer surface that is height-adjustable from 17 inches to 25 inches with at least 4 additional transfer positions located between the low and high transfer positions, separated by 1 inch. 36 CFR 1195, Appendix, M301. Section 613.4.3 of ICC A117.1-2017 requires that the changing surface be adjustable “at various heights” from 17 inches to 38 inches but does not specify requirements for incremental heights. Standards for universal changing tables derived from ADA and ABA Accessibility Guidelines and MDE standards would take into consideration unique characteristics of a changing table and thus may differ from existing requirements for other types of elements and equipment.

Question 1: Is the better approach to incorporate the industry standard, section 613.4 of ICC A117.1-2017 with Supplement 1, by reference or to develop an original standard derived from existing federal accessibility standards? Please explain.

Question 2: Were the Access Board to incorporate by reference section 613.4 of ICC A117.1-2017 with Supplement 1, are there any provisions that should be modified or added?

Question 3: As described above, existing federal and industry standards diverge with respect to the height range and intermittent heights of the table surface. The Board is seeking to accommodate the widest range of individuals with disabilities who need to transfer onto and from universal changing tables, as well as caregivers of different heights who must accomplish the tasks without additional assistance. The Board is thus considering requiring the height of this surface to be continuously adjustable within a specified range, which is different than the existing federal and industry standards. The Access Board seeks public comment on the best approach to height adjustability and the optimal range.

Question 4: Please provide information about height adjustability of universal changing tables currently available on the market, and whether existing models are continuously adjustable.

Question 5: For sanitation, should the Access Board require that the universal changing table have a non-porous surface?

Question 6: What other specifications not addressed above, if any, should be required?

B. Standards for the Rooms in Which Universal Changing Tables Are Located

In addition to comprehensive accessible design standards for universal changing tables, the FAA Reauthorization Act of 2024 also directs the Access Board to establish standards on the privacy, accessibility, and sanitation equipment of the rooms in which they are located. The Access Board's likely approach for these standards would be first to draw on its ADA and ABA Accessibility Guidelines, 36 CFR part 1191, which address accessibility of elements of toilet and bathing rooms, including lavatories and sinks, operable parts, doors, turning space, reach ranges, and clear floor or ground space. The Board would likely require that rooms where universal changing tables are located contain certain accessible elements that are needed for assisted toileting. Such elements to be considered by the Board might include a toilet, a sink, a soap dispenser, a hand towel dispenser, a waste receptable, a coat hook, a bench or seating space, or a counter.

Question 7: What elements that are essential for assisted toileting should be required in the room where a universal changing table is located? Please provide specific information as to the purpose of each recommended element.

In the alternative, the Board could reference A117.1-2017, Section 613.2.1 which requires specific components to be provided in a room with a universal changing table that contains one water closet and one lavatory. This includes soap dispensers, hand towel dispensers, coat hooks, waste receptacles, and signage all in compliance with A117.1-2017.

Question 8: Should the Access Board incorporate by reference A117.1-2017, Section 613.2.1 instead of creating its own standard based on existing Federal accessibility guidelines? If so, should the Access Board include any additional requirements that go beyond the referenced standard?

Question 9: The sanitation equipment required by ICC A117.1-2017 with Supplement 1 includes a sink and a soap dispenser. What other types of sanitation equipment, if any, should be required?

Question 10: With respect to privacy of the room, the Access Board will likely include a requirement that the door to the room be lockable from the inside. What other specifications for privacy, if any, should be required?

C. Costs of Providing Universal Changing Tables Required by the FAA Reauthorization Act

To aid in the preparation of a preliminary regulatory impact analysis, the Access Board has the following additional questions concerning the costs of providing universal changing tables in affected airports.

Question 11: The Access Board seeks public comment on the costs associated with the provision of a universal changing table and room where the table is located. The Board especially appreciates information about actual costs incurred in the installation of these facilities.

Question 12: The Access Board seeks information regarding the number of medium and large hub airports that would be applying for airport development grants beginning in 2030, and thus subject to 49 U.S.C. 47107(y); the number of terminal buildings at such airports; and the number of airports and/or terminal buildings where universal changing tables are already provided.

Approved by vote of the Access Board on January 28, 2026.
Christopher Kuczynski,
General Counsel.

[FR Doc. 2026-03199 Filed 2-17-26; 8:45 am]

BILLING CODE 8150-01-P